DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans, that are final. The actions relate to a proposed highway project, on Interstate 80 between postmiles 3.9 and 5.0 and State Route 13 (Ashby Avenue) between postmiles 13.7 and 13.9, in the Cities of Emeryville and Berkeley in the County of Alameda, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 19, 2024. If the Federal law that authorizes judicial review of a claim provides a time period of less than 150 days for filing such claim, then that shorter time period still applies.

FOR FURTHER INFORMATION CONTACT: For Caltrans: Wahida Rashid, Branch Chief, California Department of Transportation. 111 Grand Avenue, MS-8B, Oakland, California 94612. Office hours: Monday through Friday 8 a.m.-4 p.m. Contact information: Wahida.Rashid@dot.ca.gov and (510) 504-3139.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The California Department of Transportation (Caltrans) District 4, in partnership with the Alameda County Transportation Commission (Alameda CTC), proposes to provide interchange and local road improvements along Interstate 80 (I-80) at the Ashby Avenue Interchange. The project will replace the existing interchange connector ramps with a new bridge over I-80, realign access to West Frontage Road, and introduce a new bicycle-pedestrian overcrossing connection over I-80 from 65th Street/Shellmound Street to the San Francisco Bay Trail. The actions by the Federal agencies, and the laws under which such actions were taken, are described in the Final Environmental Document (FED) and Finding of No Significant Impact (FONSI) for the project, approved on December 28, 2023, and in other documents in the project records. The FED, FONSI, and other project records are available by contacting Caltrans at the information provided above. The Caltrans FED and FONSI can be viewed and downloaded from the project website at https://dot.ca.gov/caltrans-near-me/district-4/d4-popular-links/d4-environmental-docs.

This notice applies to all Federal agency decisions as of the issuance date of this notice and all laws under which such actions were taken, including but not limited to:

1. National Environmental Policy Act of 1969

2. Clean Air Act, 42 U.S.C. 7401-7671

3. Endangered Species Act of 1973 (ESA), 16 U.S.C. 1531-1544

4. Migratory Bird Treaty Act of 1918, 16 U.S.C. 703-712

5. Fish and Wildlife Coordination Act, 16 U.S.C. 661-666

6. National Historic Preservation Act of 1966 (NHPA)

7. Clean Water Act, 33 U.S.C. 1251-1387 (Sections 319, 401, and 404)

8. Executive Order 11988 Floodplain Management, Executive Order 11990 Protection of Wetlands, Executive Order 12088 Federal Compliance with Pollution Control Standards, Executive Order 12898 Federal Actions to Address Environmental Justin in Minority Populations and Low-Income Populations

(Catalog of Federal Domestic Assistance Program Number 20.205, Highway Planning and Construction. The regulations implementing Executive Order 12372 regarding intergovernmental consultation on Federal programs and activities apply to this program.)

(Authority: 23 U.S.C. 139(l)(1))

Antonio Johnson,
Director of Planning, Environmental and Right of Way, Federal Highway Administration, California Division.

[FR Doc. 2024-05973 Filed 3-20-24; 8:45 am]

BILLING CODE 4910-RY-P